ENVIRONMENTAL PROTECTION AGENCY

40 CFR Part 52

[EPA-R01-OAR-2017-0024; A-1-FRL-9961-42-Region 1]

Air Plan Approval; ME; Emission Statement Reporting

AGENCY: Environmental Protection Agency (EPA).

ACTION: Direct final rule.

SUMMARY: The Environmental Protection Agency (EPA) is approving a State Implementation Plan (SIP) revision submitted by the State of Maine. The revision updates Maine's emissions reporting requirements for certain stationary sources that emit criteria pollutants. The intended effect of this action is to approve the revision into the Maine SIP. This action is being taken under the Clean Air Act (CAA).

DATES: This direct final rule is effective June 30, 2017, unless EPA receives adverse comments by May 31, 2017. If adverse comments are received, EPA will publish a timely withdrawal of the direct final rule in the Federal Register informing the public that the rule will not take effect.

ADDRESSES: Submit your comments, identified by Docket ID No. EPA-R01-OAR-2017-0024 at http://www.regulations.gov, or via email to Mackintosh.David@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: David L. Mackintosh, Air Quality Planning Unit, U.S. Environmental Protection Agency, EPA New England Regional Office, 5 Post Office Square—Suite 100, (Mail code OEP05-2), Boston, MA 02109-3912, tel. 617-918-1584, fax 617-918-0668, email Mackintosh.David@epa.gov.

SUPPLEMENTARY INFORMATION: Throughout this document whenever “we,” “us,” or “our” is used, we mean EPA.

The following outline is provided to aid in locating information in this preamble.

I. What action is EPA taking?

II. What is the background for this action?

III. What is included in the submittal?

IV. EPA's Evaluation of the Submittal

V. Final Action

VI. Incorporation by Reference

VII. Statutory and Executive Order Reviews

I. What action is EPA taking?

EPA is approving a SIP revision submitted by the State of Maine on November 26, 2008, concerning updates to emission statement requirements for certain stationary sources that emit criteria pollutants. The Maine requirements, set out in Chapter 137 Emission Statements, were revised to be consistent with EPA's Air Emissions Reporting Requirements (AERR) at 40 CFR part 51, subpart A.

II. What is the background for this action?

Sections 182(a)(3)(B) and 184(b)(2) of the CAA require that states develop and submit, as SIP revisions, rules which establish annual reporting requirements from certain stationary sources. EPA proposed updates to AERR on January 3, 2006 (71 FR 69) and then finalized the rule on December 17, 2008 (73 FR 76539). On November 26, 2008, Maine submitted a formal revision to its State Implementation Plan (SIP), which consists of updates to Maine's Chapter 137 Emission Statements rule. On January 23, 2017, Maine withdrew from the submittal certain sections of Chapter 137. EPA last approved Maine's Chapter 137 Emission Statements on November 21, 2007 (72 FR 65462).

III. What is included in the submittal?

Maine's November 26, 2008 SIP submittal includes Chapter 137 Emission Statements, effective in Maine on November 8, 2008, less the portions Maine withdrew from the submittal on January 23, 2017. The withdrawn sections no longer pending before EPA address non-criteria pollutant (i.e., greenhouse gas and hazardous air pollutant (HAP)) reporting requirements. Specifically, the following sections of Chapter 137 were withdrawn from the submittal: Sections 1(C), (E), and (F); Definitions 2(A) through (F) and (I); Sections 3(B) and (C); the last sentence of Section 4(D)(5), and all of Appendices A and B.

IV. EPA's Evaluation of the Submittal

Maine's Chapter 137 Emission Statements has been revised to incorporate changes to be consistent with the AERR. The revised rule adds a definition for the term “Process Unit,” which is defined as “any combination of equipment or operation and material or fuel which emits pollutants.” The revised rule also includes an earlier emissions statement filing deadline. The deadline which was previously September 1 of the year following the inventory, was changed to July 1, 2009 for the 2008 inventory and then later changed to May 15 of the year following the inventory year beginning with inventory year 2009. The revisions also specify additional information to be submitted in the inventory statements:

1. Technical contact name, telephone number and email;

2. Latitude and longitude method accuracy description code used to define the accuracy of the geographic data;

3. Emissions control status indicating whether reported emissions are controlled or uncontrolled;

4. Unit type code indicating the type of emissions unit (e.g., boiler, turbine, etc.);

5. Unit operating status code indicating the operating status of the emissions unit (e.g. operating, permanently shut down, etc.);

6. Unit operating status date indicating the year in which the unit status is applicable; and

7. Emission release point type indicating the physical configuration of the release point (e.g., stack, fugitive, etc.).

Maine's revised Chapter 137 includes additional reporting requirements and requires information to be submitted earlier than the SIP-approved version of the regulation and is consistent with the AERR. Thus, the revised Chapter 137 Emission Statements satisfies the anti-back sliding requirements in Section 110(l) of the CAA and we are approving Maine's revised rule into the Maine SIP.

V. Final Action

EPA is approving, and incorporating into the Maine SIP, revised Chapter 137 Emission Statements, with the exception of portions of Chapter 137 that were withdrawn from Maine's submittal: Sections 1(C), (E), and (F); Definitions 2(A) through (F) and (I); Sections 3(B) and (C); the last sentence of Section 4(D)(5); and Appendix A and B.

The EPA is publishing this action without prior proposal because the Agency views this as a noncontroversial amendment and anticipates no adverse comments. However, in the proposed rules section of this Federal Register publication, EPA is publishing a separate document that will serve as the proposal to approve the SIP revision should relevant adverse comments be filed. This rule will be effective June 30, 2017 without further notice unless the Agency receives relevant adverse comments by May 31, 2017.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on June 30, 2017 and no further action will be taken on the proposed rule. Please note that if EPA receives adverse comment on an amendment, paragraph, or section of this rule and if that provision may be severed from the remainder of the rule, EPA may adopt as final those provisions of the rule that are not the subject of an adverse comment.

V. Incorporation by Reference

In this rule, the EPA is finalizing regulatory text that includes incorporation by reference. In accordance with requirements of 1 CFR 51.5, the EPA is finalizing the incorporation by reference of the State of Maine regulation described in the amendments to 40 CFR part 52 set forth below. The EPA has made, and will continue to make, these materials generally available through www.regulations.gov, and/or at the EPA Region 1 Office (please contact the person identified in the FOR FURTHER INFORMATION CONTACT section of this preamble for more information).

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 30, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 16, 2017.
Deborah A. Szaro,
Acting Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart U—Maine

2. In § 52.1020(c), the table is amended by revising the entry for “Chapter 137” to read as follows:

§ 52.1020 Identification of plan.

* * * * *

(c) * * *

EPA-Approved Maine Regulations
State citation | Title/subject | State effective date | EPA approval date EPA approval date and citation ¹ | Explanations
* * * * * * *
Chapter 137 | Emission Statements | 11/08/2008 | 05/01/2017 [Insert Federal Register citation] | The entire chapter is approved with the exception of HAP and greenhouse gas reporting requirements which were withdrawn from the State's SIP revision: Sections 1(C), (E), and (F); Definitions 2(A) through (F) and (I); Sections 3(B) and (C); the last sentence of Section 4(D)(5); and Appendix A and B.
* * * * * * *
¹ In order to determine the EPA effective date for a specific provision listed in this table, consult the Federal Register notice cited in this column for the particular provision.

* * * * *

[FR Doc. 2017-08648 Filed 4-28-17; 8:45 am]

BILLING CODE 6560-50-P